DEPARTMENT OF HOMELAND SECURITY

Coast Guard

33 CFR Part 117

[Docket No. USCG-2011-1013]

RIN 1625-AA09

Drawbridge Operation Regulation; Saginaw River, Bay City, MI

AGENCY: Coast Guard, DHS.

ACTION: Notice of proposed rulemaking.

SUMMARY: The Coast Guard proposes to revise the drawbridge opening schedule for the Lake State Railway Bridge at mile 3.10, the Independence Bridge at mile 3.88, the Central Michigan Railroad Bridge at mile 4.94, the Liberty Street Bridge at mile 4.99, the Veterans Memorial Bridge at mile 5.60, and the Lafayette Street Bridge at mile 6.78, all over the Saginaw River at Bay City, MI. The current regulation is confusing, outdated, and unnecessarily restrictive for both commercial and recreational vessels. The proposed regulation will simplify the regulatory language, increase access through the drawbridges for all vessels, and provide for the reasonable needs of all traffic.

DATES: Comments and related material must reach the Coast Guard on or before: January 9, 2012.

ADDRESSES: You may submit comments identified by docket number USCG-2011-1013 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email Mr. Lee Soule, Bridge Management Specialist, Ninth Coast Guard District; telephone (216) 902-6085, email Lee.D.Soule@uscg.mil. If you have questions on viewing or submitting material to the docket, call Renee V. Wright, Program Manager, Docket Operations, telephone (202) 366-9826.

SUPPLEMENTARY INFORMATION:

Public Participation and Request for Comments

We encourage you to participate in this rulemaking by submitting comments and related materials. All comments received will be posted, without change to http://www.regulations.gov and will include any personal information you have provided.

Submitting Comments

If you submit a comment, please include the docket number for this rulemaking (USCG-2011-1013), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Document Type” drop down menu select “Proposed Rules” and insert “USCG-2011-1013” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-1013” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why one would be beneficial. If we determine that one would aid this rulemaking, we will hold one at a time and place announced by a later notice in the Federal Register.

Basis and Purpose

Lake Carriers Association (LCA), an organization representing U.S. shipping companies on the Great Lakes, requested that the existing drawbridge regulation for Saginaw River be reviewed and changed to make the regulation easier to understand and to remove restrictive drawbridge schedules for commercial vessels. The existing regulation was reviewed in its entirety for all drawbridges, vessel types, dates, and hours of operation.

Lake State Railway Bridge at mile 3.10 is a swing bridge that provides 7 feet vertical clearance in the closed position and unlimited clearance in the open position. The Independence Bridge at mile 3.88 is a bascule bridge that provides 22 feet vertical clearance in the closed position and unlimited clearance in the open position. The Central Michigan Railroad Bridge at mile 4.94 is a swing bridge that provides 8 feet of vertical clearance in the closed position and unlimited clearance in the open position. The Liberty Street Bridge at mile 4.99 is a bascule bridge that provides 25 feet of vertical clearance in the closed position and unlimited clearance in the open position. The Veterans Memorial Bridge at mile 5.60 is a bascule bridge that provides 15 feet of vertical clearance in the closed position and unlimited clearance in the open position. The Lafayette Street Bridge at mile 6.78 is a bascule bridge that provides 20 feet vertical clearance in the closed position and unlimited clearance in the open position. There is no alternate waterway for vessels entering or departing Saginaw River.

The draws of the Lake State Railway and CN RR bridges currently open on signal for all vessel traffic that requires a bridge opening, except that from December 16 through March 15 the bridges open on signal if at least 12 hours advance notice is provided.

The draws of the Independence Street, Liberty Street, Veterans Memorial, and Lafayette Street drawbridges open on signal from March 16 through December 15, except as follows: the draws need not open for the passage of vessels less than 50 gross tons from 6:30 a.m. to 8:30 a.m. and 3:30 p.m. to 5:30 p.m., except Saturdays, Sundays, and holidays observed in the locality. The draws need not open for the passage of downbound vessels over 50 gross tons from 7:30 a.m. to 8:30 a.m. and 4:30 p.m. to 5:30 p.m., except on Sundays, Federal holidays, and holidays observed in the locality. From 8 a.m. to 8 p.m. on Saturdays, Sundays, and Federal holidays, the Independence Street and Veterans Memorial bridges need not open for recreational vessels except from three minutes before to three minutes after the hour and half-hour, and the Liberty Street and Lafayette Street bridges need not open for recreational vessels except from three minutes before to three minutes after the quarter-hour and three-quarter hour. Currently, the draws of these bridges shall open on signal from December 16 through March 15 if at least 12 hours advance notice is provided.

The proposed drawbridge schedules and revised regulation were developed with all known stakeholders, including; LCA, Canadian Shipowners Association, local Coast Guard units, City of Bay City, MI, Michigan Department of Transportation (MDOT), Bay Harbor Marina, Pier 7 Marina, Liberty Harbor Marina, and Bay City Yacht Club. All parties have preliminarily concurred with the proposed drawbridge schedules and language.

Discussion of Proposed Rule

The preliminary investigation conducted during the development of this proposed rule found that marine traffic on Saginaw River consists of large commercial, small commercial, and both power and sail recreational vessels. Large commercial vessel traffic usually operates from the beginning of April until the end of December. Recreational and small commercial vessel traffic usually operates between April 15 and November 1, and generally increases on the weekends. Vehicular traffic has been reduced in the past 20 years following the closure of industrial and manufacturing facilities in Bay City/Saginaw, including reduced vehicular traffic on weekends when recreational vessel traffic increases.

Under the current regulation, the highway drawbridges are not required to open for recreational vessels from 6:30 a.m. to 8:30 a.m., and from 3:30 p.m. to 5:30 p.m., 7 days a week. Additionally, they are not required to open from 7:30 a.m. to 8:30 a.m. and 4:30 p.m. to 5:30 p.m., Monday through Saturday, for the passage of downbound vessels over 50 gross tons (all large commercial vessels). The proposed rule will allow large commercial vessels to obtain bridge openings at any time, and allow recreational vessels to pass on two scheduled times each hour between 6:30 a.m. and 7 p.m., Monday through Friday, and at any time during all other days and times, thereby increasing access through all drawbridges for all vessel traffic. Furthermore, the dates for winter operation of all drawbridges have been adjusted to reflect the current seasonal operations for both commercial and recreational vessels. Currently, vessels are required to provide at least 12-hours advance notice of arrival between December 16 and March 15. The proposed schedule will require 12-hour advance notice of arrival between January 1 and March 31.

The proposed drawbridge regulation was developed to reflect the current conditions and needs of both vessel and vehicular traffic, and was coordinated with all known stakeholders and entities in Bay City/Saginaw, MI. The proposed regulatory language is more concise and easier to understand, has been preliminarily approved by all known entities included in the development of the proposed rule, and is expected to provide for the reasonable balance of all modes of transportation.

Regulatory Analyses

We developed this proposed rule after considering numerous statutes and executive orders related to rulemaking. Below we summarize our analyses based on 13 of these statutes or executive orders.

Regulatory Planning and Review

This proposed rule is not a “significant regulatory action” under section 3(f) of Executive Order 12866, Regulatory Planning and Review, as supplemented by Executive Order 13563, Improving Regulation and Regulatory Review, and does not require an assessment of potential costs and benefits under section 6(a)(3) of Executive Order 12866. The Office of Management and Budget has not reviewed it under those Orders. This determination is based upon the Coast Guard's expectation that this proposed rule will improve traffic congestion and safety in the vicinity of the drawbridge and does not exclude bridge openings for vessel traffic.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The proposed rule would affect the following entities, some of which might be small entities: the owners and operators needing to transit the bridges. However, this action will not have a significant economic impact on a substantial number of small entities for the following reasons. This rule will increase access through the drawbridges for all entities compared to the existing regulation and drawbridge schedule. All known marina owners and small entities were consulted during the development of this proposed rule and have preliminarily concurred with the proposed drawbridge schedule. Additionally, all vessels that do not require bridge openings may transit the drawbridges at any time.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Mr. Lee D. Soule, Bridge Management Specialist, U.S. Coast Guard, telephone (216) 902-6085, email lee.d.soule@uscg.mil, or fax (216) 902-6088. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule will not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have Tribal implications under Executive Order 13175, Consultation and Coordination with Indian Tribal Governments, because it would not have a substantial direct effect on one or more Indian Tribes, on the relationship between the Federal Government and Indian Tribes, or on the distribution of power and responsibilities between the Federal Government and Indian Tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01, and Commandant Instruction M16475.lD which guides the Coast Guard in complying with the National Environmental Policy Act of 1969 (NEPA)(42 U.S.C. 4321-4370f), and have made a preliminary determination that this action is one of a category of actions which do not individually or cumulatively have a significant effect on the human environment because it simply promulgates the operating regulations or procedures for drawbridges. We seek any comments or information that may lead to the discovery of a significant environmental impact from this proposed rule.

List of Subjects in 33 CFR Part 117

Bridges.

For the reasons discussed in the preamble, the Coast Guard proposes to revise 33 CFR part 117 as follows:

PART 117—DRAWBRIDGE OPERATION REGULATIONS

1. The authority citation for part 117 continues to read as follows:

Authority: 33 U.S.C. 499; 33 CFR 1.05-1; Department of Homeland Security Delegation No. 0170.1.

2. Revise § 117.647 to read as follows:

§ 117.647 Saginaw River.

(a) The draws of the Lake State Railway Bridge, mile 3.10, and the Central Michigan Railroad Bridge, mile 4.94, both in Bay City, shall open on signal; except that from January 1 through March 31, the draws shall open on signal if at least 12 hours advance notice is provided.

(b) The draws of the Independence Bridge, mile 3.88, Liberty Street Bridge, mile 4.99, Veterans Memorial Bridge, mile 5.60, and Lafayette Street Bridge, mile 6.78, all in Bay City, shall open on signal, except as follows:

(1) From April 15 through November 1, between the hours of 6:30 a.m. and 7 p.m., Monday through Friday, except federal holidays, the draws of the Independence and Veterans Memorial Bridges need open for the passage of recreational vessels only from three minutes before to three minutes after the hour and half-hour, and the Liberty Street and Lafayette Street bridges need open for the passage of recreational vessels only from three minutes before to three minutes after the quarter-hour and three-quarter hour.

(2) From January 1 through March 31, the draws of these bridges shall open on signal if at least 12 hours advance notice is provided.

* * * * *

Dated: November 9, 2011.
M.N. Parks,
Rear Admiral, U.S. Coast Guard, Commander, Ninth Coast Guard District.

[FR Doc. 2011-31456 Filed 12-7-11; 8:45 am]

BILLING CODE 9110-04-P